OFFICE OF PERSONNEL MANAGEMENT

Submission for Review: White House Fellows Application, 3206-XXXX

AGENCY: Office of Personnel Management.

ACTION: 30-Day Notice and request for comments.

SUMMARY: The President's Commission on White House Fellowships, Office of Personnel Management (OPM) offers the general public and other Federal agencies the opportunity to comment on an information collection request (ICR) 3206-XXXX, White House Fellows Application. As required by the Paperwork Reduction Act of 1995, (Pub. L. 104-13, 44 U.S.C. chapter 35) as amended by the Clinger-Cohen Act (Pub. L. 104-106), OPM is soliciting comments for this collection. The information collection was previously published in the Federal Register on July 31, 2015 at 80 FR 45686 allowing for a 60-day public comment period. No comments were received for this information collection. The purpose of this notice is to allow an additional 30 days for public comments.

DATES: Comments are encouraged and will be accepted until November 2, 2015. This process is conducted in accordance with 5 CFR 1320.1.

ADDRESSES: Interested persons are invited to submit written comments on the proposed information collection to the Office of Information and Regulatory Affairs, Office of Management Budget, 725 17th Street NW., Washington, DC 20503, Attention: Desk Officer for the Office of Personnel Management or sent via electronic mail to oira_submission@omb.eop.gov or faxed to (202) 395-6974.

FOR FURTHER INFORMATION CONTACT: A copy of this ICR, with applicable supporting documentation, may be obtained by contacting the Office of Information and Regulatory Affairs, Office of Management Budget, 725 17th Street NW., Washington, DC 20503, Attention: Desk Officer for the Office of Personnel Management or sent via electronic mail to oira_submission@omb.eop.gov or faxed to (202) 395-6974.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Founded in 1964 by Lyndon B. Johnson, the White House Fellows program is one of America's most prestigious programs for leadership and public service. White House Fellowships offer exceptional young men and women first-hand experience working at the highest levels of the Federal government.

Selected individuals typically spend a year working as a full-time, paid Fellow to senior White House Staff, Cabinet Secretaries and other top-ranking government officials. Fellows also participate in an education program consisting of roundtable discussions with renowned leaders from the private and public sectors, and trips to study U.S. policy in action both domestically and internationally. Fellowships are awarded on a strictly non-partisan basis

Analysis

Agency: President's Commission on White House Fellowship, Office of Personnel Management.

Title: White House Fellows Application.

OMB Number: 3206-XXXX.

Affected Public: Members of the general public who meet eligibility requirements set forth in Executive Order 11183.

Number of Respondents: 2,000.

Estimated Time Per Respondent: 20 hours.

Total Burden Hours: 40,000 hours.

U.S. Office of Personnel Management.
Beth F. Cobert,
Acting Director.

[FR Doc. 2015-25087 Filed 9-30-15; 8:45 am]

BILLING CODE 6325-47-P